ENVIRONMENTAL PROTECTION AGENCY

[FRL-9194-4]

Proposed Administrative Settlement Agreement Under Section 122 of the Comprehensive Environmental Response, Compensation, and Liability Act for the Crown Vantage Landfill Superfund Site Located in Alexandria Township, Hunterdon County, NJ

AGENCY: Environmental Protection Agency.

ACTION: Notice of proposed administrative settlement and opportunity for public comment.

SUMMARY: The United States Environmental Protection Agency (“EPA”) is proposing to enter into an administrative settlement agreement (“Settlement Agreement”) with Georgia-Pacific Consumer Products, LP and International Paper Company (collectively “Settling Parties”) pursuant to Section 122 of the Comprehensive Environmental Response, Compensation, and Liability Act (“CERCLA”), 42 U.S.C. 9622. The Settlement Agreement provides for Settling Parties' payment of certain response costs incurred by EPA at the Crown Vantage Landfill Superfund Site located in Alexandria Township, Hunterdon County, New Jersey.

In accordance with Section 122(i) of CERCLA, 42 U.S.C. 9622(i), this notice is being published to inform the public of the proposed Settlement Agreement and of the opportunity to comment. For thirty (30) days following the date of publication of this notice, EPA will receive written comments relating to the proposed Settlement Agreement. EPA will consider all comments received and may modify or withdraw its consent to the settlement if comments received disclose facts or considerations that indicate that the proposed settlement is inappropriate, improper or inadequate. EPA's response to any comments received will be available for public inspection at EPA Region 2, 290 Broadway, 17th floor, New York, New York 10007-1866.

DATES: Comments must be provided by September 27, 2010.

ADDRESSES: Comments should reference the Crown Vantage Landfill Superfund Site, EPA Index No. 02-2010-2021 and should be sent to the U.S. Environmental Protection Agency, Office of Regional Counsel, New Jersey Superfund Branch, 290 Broadway—17th Floor, New York, NY 10007.

SUPPLEMENTARY INFORMATION: A copy of the proposed administrative settlement, as well as background information relating to the settlement, may be obtained from Elizabeth La Blanc, Assistant Regional Counsel, New Jersey Superfund Branch, Office of Regional Counsel, U.S. Environmental Protection Agency, 17th Floor, 290 Broadway, New York, New York 10007-1866. Telephone: 212-637-3106.

FOR FURTHER INFORMATION CONTACT: Elizabeth La Blanc, Assistant Regional Counsel, New Jersey Superfund Branch, Office of Regional Counsel, U.S. Environmental Protection Agency, 17th Floor, 290 Broadway, New York, New York 10007-1866. Telephone: 212-637-3106.

Dated: August 2, 2010.
Walter Mugdan,
Director, Emergency and Remedial Response Division.

[FR Doc. 2010-21381 Filed 8-26-10; 8:45 am]

BILLING CODE 6560-50-P